DEPARTMENT OF COMMERCE

International Trade Administration

[A-580-880]

Heavy Walled Rectangular Welded Carbon Steel Pipes and Tubes From the Republic of Korea: Final Results of Antidumping Duty Administrative Review; 2021-2022

AGENCY: Enforcement and Compliance, International Trade Administration, Department of Commerce.

SUMMARY: The U.S. Department of Commerce (Commerce) determines that heavy walled rectangular welded carbon steel pipes and tubes (HWR) from the Republic of Korea (Korea) were not sold at less than normal value during the period of review (POR) September 1, 2021, through August 31, 2022.

DATES: Applicable November 28, 2023.

FOR FURTHER INFORMATION CONTACT: Rebecca M. Janz, AD/CVD Operations, Office II, Enforcement and Compliance, International Trade Administration, U.S. Department of Commerce, 1401 Constitution Avenue NW, Washington, DC 20230; telephone: (202) 482-2972.

SUPPLEMENTARY INFORMATION:

Background

On July 31, 2023, Commerce published in the Federal Register the preliminary results of the 2021-2022 administrative review ¹ of the antidumping duty order on heavy walled rectangular welded carbon steel pipes and tubes from the Republic of Korea (Korea).² We invited interested parties to comment on the Preliminary Results.³ No interested party submitted comments. Accordingly, the final results of the review remain unchanged from the Preliminary Results. Commerce conducted this administrative review in accordance with section 751 of the Tariff Act of 1930, as amended (the Act).

¹ See Heavy Walled Rectangular Welded Carbon Steel Pipes and Tubes from the Republic of Korea: Preliminary Results and Rescission, in Part, of Antidumping Duty Administrative Review; 2021-2022, 88 FR 51773 (July 31, 2023) (Preliminary Results), and accompanying Preliminary Decision Memorandum (PDM).

² See Heavy Walled Rectangular Welded Carbon Steel Pipes and Tubes from the Republic of Korea, Mexico, and the Republic of Turkey: Antidumping Duty Orders, 81 FR 62865 (September 13, 2016) (Order).

³ See Preliminary Results.

Scope of the Order

The products covered by the Order are certain heavy walled rectangular welded steel pipes and tubes from Korea.⁴

⁴ For a complete description of the scope of the Order, see the Preliminary Results PDM at 2-3.

Final Results of Review

We determine that the following weighted-average dumping margin exists for the period September 1, 2021, through August 31, 2022:

Producer/exporter | Weighted-average dumping margin (percent)
NEXTEEL Co., Ltd | 0.00

Disclosure

Because Commerce received no comments on the Preliminary Results, we have not modified our analysis, and no decision memorandum accompanies this Federal Register notice. We are adopting the Preliminary Results as the final results of this review. Consequently, there are no new calculations to disclose in accordance with 19 CFR 351.224(b) for these final results of review.

Assessment Rates

Pursuant to section 751(a)(2)(C) of the Act and 19 CFR 351.212(b)(1), Commerce has determined, and U.S. Customs and Border Protection (CBP) shall assess, antidumping duties on all appropriate entries of subject merchandise in accordance with the final results of this review. Because the respondent's weighted-average dumping margin or importer-specific assessment rates are zero or de minimis in the final results of review, we intend to instruct CBP to liquidate the entries without regard to antidumping duties.⁵ These final results of administrative review shall be the basis for the assessment of antidumping duties on entries of merchandise covered by this review and for future deposits of estimated duties, where applicable.⁶

⁵ See Antidumping Proceedings: Calculation of the Weighted-Average Dumping Margin and Assessment Rate in Certain Antidumping Proceedings; Final Modification, 77 FR 8101, 8102-03 (February 14, 2012); see also 19 CFR 351.106(c)(2).

⁶ See section 751(a)(2)(C) of the Act.

For entries of subject merchandise during the POR produced by NEXTEEL Co., Ltd. for which it did not know that the merchandise it sold was destined for the United States, we will instruct CBP to liquidate unreviewed entries at the all-others rate if there is no rate for the intermediate company(ies) involved in the transaction.⁷

⁷ For a full discussion of this practice, see Antidumping and Countervailing Duty Proceedings: Assessment of Antidumping Duties, 68 FR 23954 (May 6, 2003).

Commerce intends to issue assessment instructions to CBP no earlier than 35 days after the date of publication of the final results of this review in the Federal Register. If a timely summons is filed at the U.S. Court of International Trade, the assessment instructions will direct CBP not to liquidate relevant entries until the time for parties to file a request for a statutory injunction has expired (i.e., within 90 days of publication).

Cash Deposit Requirements

The following cash deposit requirements will be effective upon publication in the Federal Register of the notice of final results of administrative review for all shipments of the subject merchandise entered, or withdrawn from warehouse, for consumption on or after the date of publication as provided by section 751(a)(2)(C) of the Act: (1) the cash deposit rate for the respondent will equal to the weighted-average dumping margin established in the final results of this administrative review; (2) for merchandise exported by a company not covered in this review but covered in a prior segment of the proceeding, the cash deposit rate will continue to be the company-specific cash deposit rate published in the completed segment for the most recent period; (3) if the exporter is not a firm covered in this review, or a previous segment, but the producer is, then the cash deposit rate will be the rate established in the completed segment for the most recent period for the producer of the merchandise; and (4) the cash deposit rate for all other producers or exporters will continue to be 3.24 percent, the all-others rate established in the less-than-fair-value investigation.⁸ These deposit requirements, when imposed, shall remain in effect until further notice.

⁸ See Order.

Notification to Importers

This notice serves as a final reminder to importers of their responsibility under 19 CFR 351.402(f)(2) to file a certificate regarding the reimbursement of antidumping duties prior to liquidation of the relevant entries during this review period. Failure to comply with this requirement could result in Commerce's presumption that reimbursement of antidumping duties occurred and the subsequent assessment of double antidumping duties.

Administrative Protective Order

This notice serves as the only reminder to parties subject to administrative protective order (APO) of their responsibility concerning the disposition of proprietary information disclosed under APO in accordance with 19 CFR 351.305(a)(3), which continues to govern business proprietary information in this segment of the proceeding. Timely written notification of return/destruction of APO materials or conversion to judicial protective order is hereby requested. Failure to comply with the regulations and terms of an APO is a violation subject to sanction.

Notification to Interested Parties

Commerce is issuing and publishing the final results of this review in accordance with sections 751(a)(1) and 777(i) of the Act and 351.221(b)(5).

Dated: November 17, 2023.
Abdelali Elouaradia,
Deputy Assistant Secretary for Enforcement and Compliance.

[FR Doc. 2023-26136 Filed 11-27-23; 8:45 am]

BILLING CODE 3510-DS-P